DEPARTMENT OF THE TREASURY

Office of Foreign Assets Control

Notice of OFAC Sanctions Actions

AGENCY: Office of Foreign Assets Control, Treasury.

ACTION: Notice.

SUMMARY: The U.S. Department of the Treasury's Office of Foreign Assets Control (OFAC) is publishing an update to the identifying information of a person currently included in OFAC's Specially Designated Nationals and Blocked Persons List (SDN List). All property and interests in property subject to U.S. jurisdiction of these persons are blocked, and U.S. persons are generally prohibited from engaging in transactions with them.

DATES: See Supplementary Information section for effective date(s).

FOR FURTHER INFORMATION CONTACT: OFAC: Andrea Gacki, Director, tel.: 202-622-2490; Associate Director for Global Targeting, tel.: 202-622-2420; Assistant Director for Licensing, tel.: 202-622-2480; Assistant Director for Regulatory Affairs, tel.: 202-622-4855; or Assistant Director for Sanctions Compliance & Evaluation, tel.: 202-622-2490.

SUPPLEMENTARY INFORMATION:

Electronic Availability

The SDN List and additional information concerning OFAC sanctions programs are available on OFAC's website (https://www.treasury.gov/ofac).

Notice of OFAC Actions

On April 14, 2022, OFAC updated the SDN List entry for the following person, whose property and interests in property subject to U.S. jurisdiction continue to be blocked.

Entity

1. LAZARUS GROUP (a.k.a. “APPLEWORM”; a.k.a. “APT-C-26”; a.k.a. “GROUP 77”; a.k.a. “GUARDIANS OF PEACE”; a.k.a. “HIDDEN COBRA”; a.k.a. “OFFICE 91”; a.k.a. “RED DOT”; a.k.a. “TEMP.HERMIT”; a.k.a. “THE NEW ROMANTIC CYBER ARMY TEAM”; a.k.a. “WHOIS HACKING TEAM”; a.k.a. “ZINC”), Potonggang District, Pyongyang, Korea, North; Digital Currency Address—ETH 0x098B716B8Aaf21512996dC57EB0615e2383E2f96; Secondary sanctions risk: North Korea Sanctions Regulations, sections 510.201 and 510.210; Transactions Prohibited For Persons Owned or Controlled By U.S. Financial Institutions: North Korea Sanctions Regulations section 510.214 [DPRK3].

Dated: April 14, 2022.
Andrea M. Gacki,
Director, Office of Foreign Assets Control, U.S. Department of the Treasury.

[FR Doc. 2022-08323 Filed 4-18-22; 8:45 am]

BILLING CODE 4810-AL-P